DEPARTMENT OF TRANSPORTATION

Pipeline and Hazardous Materials Safety Administration

Applications for Modification of Special Permit

AGENCY: Office of Hazardous Materials Safety, Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before November 6, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for modification of special permit is published in accordance with part 107 of the Federal hazardous materials transportation law (49 U.S.C. 5117(b); 49 CFR 1.53(b)).

Issued in Washington, DC, on October 6, 2009.
Delmer F. Billings,
Director, Office of Hazardous Materials Special Permits and Approvals.

Application No. | Docket No. | Applicant | Regulation(s) affected | Nature of special permit thereof
Modification Special Permits
14298-M |  | Air Products and Chemicals, Inc., Allentown, PA | 49 CFR 180.209(a) and (b) | To modify the special permit to authorize more cycle fillings of each cylinder (tube) from 300 to 600 in a 10 year period.
14523-M |  | Pacific Bio-Material Management, Inc., Fresno, CA | 49 CFR 173.196(b); 173.1 96(e)(2)(ii) | To modify the special permit to authorize the transportation of material in other than the specific make and model of the freezers described in the special permit and to change the advance notice time from 1 month to 48-72 hours.
14894-M |  | Department of Defense, Scott Air Force Base, IL | 49 CFR 172.10 1 Table Column (9B) | To reissue the special permit originally issued on an emergency basis to the one-time, one-way transportation in commerce of certain explosives that are forbidden for transportation by cargo only aircraft.

[FR Doc. E9-25279 Filed 10-21-09; 8:45 am]

BILLING CODE M